DEPARTMENT OF LABOR

Employment and Training Administration

[TA-W-39,241]

Johnson Controls, Inc., Sycamore, IL; Dismissal of Application for Reconsideration

Pursuant to 29 CFR 90.18(C) an application for administrative reconsideration was filed with the Director of the Division of Trade Adjustment Assistance for workers at Johnson Controls, Inc., Sycamore, Illinois. The application contained no new substantial information which would bear importantly on the Department's determination. Therefore, dismissal of the application was issued.

TA-W-39,241; Johnson Controls, Inc., Sycamore, Illinois (November 13, 2001)

Signed at Washington, DC, this 19th day of November, 2001.
Edward A. Tomchick,
Director, Division of Trade Adjustment Assistance.

[FR Doc. 01-29749 Filed 11-29-01; 8:45 am]

BILLING CODE 4510-30-M